DEPARTMENT OF ENERGY

Agency Information Collection Extension

AGENCY: Department of Energy.

ACTION: Submission for Office of Management and Budget (OMB) review; comment request.

SUMMARY: The Department of Energy (DOE) has submitted an information collection package to the OMB for extension under the provisions of the Paperwork Reduction Act of 1995. The package requests a three-year extension of its Compliance Statement: Energy/Water Conservation Standards for Appliances, OMB Control Number 1910-1400. This information collection package covers information necessary to collect information from manufacturers to determine whether products covered under the Energy Policy and Conservation Act (EPCA or the Act) and part 430 of title 10 of the Code of Federal Regulations (10 CFR 430) comply with required energy conservation and water conservation standards before these products can be distributed in commerce.

DATES: Comments regarding this collection must be received on or before April 7, 2004. If you anticipate that you will be submitting comments, but find it difficult to do so within the period of time allowed by this notice, please advise the OMB Desk Officer of your intention to make a submission as soon as possible. The Desk Officer may be telephoned at 202-395-7345.

ADDRESSES: Written comments should be sent to the DOE Desk Officer, Office of Information and Regulatory Affairs, Office of Management and Budget, New Executive Office Building, Room 10102, 735 17th Street, NW., Washington, DC 20503. (Comments should also be addressed to Susan L. Frey, Director, Records Management Division IM-11/Germantown Bldg., Office of the Chief Information Officer, U.S. Department of Energy, 1000 Independence Ave, SW., Washington, DC 20585-1290, and to Regina Washington, Office of Energy Efficiency and Renewable Energy, 1000 Independence Avenue, SW., Washington, DC 20585.

FOR FURTHER INFORMATION CONTACT: Susan L. Frey, Director, Records Management Division, Office of the Chief Information Officer, U.S. Department of Energy, 1000 Independence Ave, SW., Washington, DC 20585-1290, (301) 903-3666, or e-mail susan.frey@hq.doe.gov.

SUPPLEMENTARY INFORMATION: This package contains: (1) OMB No. 1910-1400; (2) Package Title: Compliance Statement: Energy/Water Conservation Standards for Appliances; (3) Purpose: DOE will collect information from manufacturers to verify that products covered under the Act comply with required energy conservation and water conservation standards prior to distributing these products in commerce. DOE will make a determination of compliance by examining manufacturer's compliance statements and certification reports that each basic model meets the applicable energy and water conservation standard as prescribed in section 325 of the Act. (4) Estimated Number of Respondents: 48; (5) Estimated Total Burden Hours: 1,347; (6) Number of Collections: The package contains 14 information and/or recordkeeping requirements.

Statutory Authority: EPCA mandates the use of uniform energy and water conservation standards and testing procedures for covered products. DOE has previously established compliance reporting requirements in § 430.62 of title 10 CFR 430. The authority for certification reporting under part 430 is section 326(d) of part B of title III of EPCA which states:

“For purposes of carrying out this part, the Secretary may require, under this part [42 U.S.C. 6291 et seq.] or other provision of law administered by the Secretary, each manufacturer of a covered product to submit information or reports to the Secretary with respect to energy efficiency, energy use, or, in the case of showerheads, faucets, water closets, and urinals, water use of such covered product . . . to ensure compliance with the requirements of this part.” 42 U.S.C. 6296(d).

Issued in Washington, DC, on March 2, 2004.
Susan L. Frey,
Director, Records Management Division, Office of the Chief Information Officer.

[FR Doc. 04-5121 Filed 3-5-04; 8:45 am]

BILLING CODE 6450-01-P